DEPARTMENT OF AGRICULTURE

Agricultural Marketing Service

[Doc. No. AMS-FV-13-0013]

Request for Extension and Revision of a Currently Approved Information Collection With Additional Merge of Additional Collection: Regulations Governing Inspection and Certification of Fresh and Processed Fruits, Vegetables and other Products

AGENCY: Agricultural Marketing Service, USDA.

ACTION: Notice; correction.

SUMMARY: The Agricultural Marketing Service published a document in the Federal Register on May 13, 2013 [78 FR 32030] concerning request for approval from the Office of Management and Budget for an Extension and Revision of a Currently Approved Information Collection With Additional Merge of Additional Collection: Regulations Governing Inspection and Certification of Fresh and Processed Fruits, Vegetables and other Products. The document contained errors.

FOR FURTHER INFORMATION CONTACT: Francisco Grazette (202) 720-1556.

Correction

In the Federal Register document published May 13, 2013, FR Doc. 2013-11211 on page 27936, second column, correct the DATES section to read:

DATES: Comments on this notice must be received by July 12, 2013 to be assured consideration.

Dated: June 5, 2013.
Rex A. Barnes,
Associate Administrator, Agricultural Marketing Service.

[FR Doc. 2013-13829 Filed 6-10-13; 8:45 am]

BILLING CODE 3410-02-P